ENVIRONMENTAL PROTECTION AGENCY

[EPA-HQ-OPPT-2020-0473; FRL-10020-39]

Seventy-Fourth Report of the TSCA Interagency Testing Committee to the Administrator of the Environmental Protection Agency; Receipt of Report and Request for Comments

AGENCY: Environmental Protection Agency (EPA).

ACTION: Notice of availability.

SUMMARY: The Toxic Substances Control Act (TSCA) Interagency Testing Committee (ITC) transmitted its Seventy-Fourth Report of the ITC to the Administrator of the Environmental Protection Agency (EPA) on April 13, 2020. In the Seventy-Fourth Report of the ITC, which is included with this notice, the ITC is revising the Priority Testing List by adding 15 of the 20 High-Priority Substances, designated as such under TSCA, and 24 organohalogen flame retardants. EPA is hereby announcing the receipt of and invites public comment on the ITC Report reproduced at the end of this notice.

DATES: Comments must be received on or before May 28, 2021.

ADDRESSES: Submit your comments, identified by docket identification (ID) number EPA-HQ-OPPT-2020-0473, by using the Federal eRulemaking Portal at http://www.regulations.gov. Follow the online instructions for submitting comments. Do not submit electronically any information you consider to be Confidential Business Information (CBI) or other information whose disclosure is restricted by statute.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: For technical information contact: Diana Fahning, Data Gathering and Dissemination Division (7410M), Office of Pollution Prevention and Toxics, Environmental Protection Agency, 1200 Pennsylvania Ave. NW, Washington, DC 20460-0001; telephone number: (202) 564-8621; email address: fahning.diana@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This notice is directed to the public in general. It may, however, be of particular interest to you if you manufacture (defined by statute to include import) and/or process chemical substances described in this notice that are subject to the Toxic Substances Control Act (TSCA), 15 U.S.C. 2601, et seq. and you may be identified by the North American Industrial Classification System (NAICS) codes 325 and 32411. Because this notice is directed to the general public and other entities may also be interested, the Agency has not attempted to describe all the specific entities that may be interested in this action.

B. What is the Agency's authority?

TSCA section 4(e) created the TSCA ITC as an independent advisory committee to the Administrator of the U.S. EPA. The ITC was created to make recommendations to the EPA Administrator on prioritizing and selecting chemicals for testing or information reporting to meet the coordinated data needs of its member U.S. Government organizations. Such recommendations are presented to the EPA Administrator in the form of additions to the TSCA section 4(e) Priority Testing List. The ITC transmits revisions to the Priority Testing List to the EPA Administrator in ITC reports that EPA publishes in the Federal Register for public comment as directed by TSCA.

C. What should I consider as I prepare my comments for EPA?

1. Submitting CBI. Do not submit this information to EPA through regulations.gov or email. Clearly mark the part or all of the information that you claim to be CBI. For CBI information submitted in an electronic storage device such as a flash drive, disk or CD-ROM that you mail to EPA, mark the outside of the device as CBI and then identify electronically within the device the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

EPA is publishing the following ITC report and is soliciting comment on the revisions to the Priority Testing List and any information relevant to this listing.

A. Seventy-Fourth Report of the ITC

In the 74th ITC Report, the ITC is revising the TSCA section 4(e) Priority Testing List by adding 15 High-Priority Substances designated pursuant to TSCA section 6(b) and 24 organohalogen flame retardants to the Priority Testing List. The ITC requests that EPA add these chemical substances and the other five High-Priority Substances and six organohalogen flame retardants currently on the Priority Testing List to 40 CFR 716.120(a), which is the list of substances subject to 40 CFR part 716, under the procedures in § 716.105.

B. Status of the TSCA Section 4(e) Priority Testing List

The chemical substances being added to the TSCA section 4(e) Priority Testing List can be found below in Table 1 of the 74th ITC Report and the remainder of the chemicals and chemical categories can be found in Table 2 of the report. In addition to the chemical substances being added to the Priority Testing List in the 74th ITC Report, the Priority Testing List includes 2 alkylphenols, 45 HPV Challenge Program orphan chemicals, cadmium, a category of cadmium compounds, 6 non-phthalate plasticizers, 25 phosphate ester flame retardants, 2 other flame retardants, 9 chemicals to which children living near hazardous waste sites may be exposed, and 19 diisocyanates and related compounds.

Authority: 15 U.S.C. 2601 et seq.

Michael S. Regan,
Administrator.

Seventy-Fourth Report of the TSCA Interagency Testing Committee to the Administrator of the Environmental Protection Agency (EPA)

Table of Contents

Summary

I. Background

II. TSCA Section 8(d) Health and Safety Data Reporting Rule

III. Activities During the May 2020 ITC Meeting and Revisions to the TSCA Section 4(e) Priority Testing List: Addition of 15 High-Priority Substances and 24 Organohalogen Flame Retardants

IV. References

V. The TSCA Interagency Testing Committee

Summary

In this 74th ITC Report, the ITC is revising the Toxic Substances Control Act (TSCA) section 4(e) Priority Testing List by adding 15 High-Priority Substances and 24 organohalogen flame retardants and requesting that EPA add these chemicals to the TSCA section 8(d) Health and Safety Data Reporting rule. The ITC is also requesting that EPA add the other five High-Priority Substances and six organohalogen flame retardants specified in Unit III. of this report, and currently on the Priority Testing List, to the Health and Safety Data Reporting rule.

I. Background

The ITC was established under section 4(e) of TSCA and recommends to EPA chemical substances and mixtures to be given priority consideration for the development of information under TSCA section 4(a). These recommendations are made in the form of a list known as the Priority Testing List. The ITC revises the Priority Testing List as it determines necessary and transmits such revisions to the EPA Administrator with the ITC's rationales for the revisions. ITC Reports are available from regulations.gov http://www.regulations.gov after publication in the Federal Register and on EPA's website https://www.epa.gov/assessing-and-managing-chemicals-under-tsca/interagency-testing-committee-itc-reports. The ITC produces its revisions to the Priority Testing List with administrative and technical support from EPA staff, ITC Members, and their U.S. Government organizations. ITC members and staff are listed at the end of this report.

II. TSCA Section 8(d) Health and Safety Data Reporting Rule

Following receipt of the ITC's report (and the revised Priority Testing List) by the EPA Administrator, and following the public comment period on this report and consideration of any such comments received, EPA's Office of Pollution Prevention and Toxics (OPPT) may add the chemicals from the revised Priority Testing List to the TSCA section 8(d) Health and Safety Data Reporting rule (40 CFR part 716) (Ref. 1). The Health and Safety Data Reporting rule requires manufacturers (including importers) of chemical substances and mixtures added to the Health and Safety Data Reporting rule to submit lists and copies of unpublished health and safety studies to EPA.

III. Activities During the May 2020 ITC Meeting and Revisions to the TSCA Section 4(e) Priority Testing List: Addition of 15 High-Priority Substances and 24 Organohalogen Flame Retardants

During the May 2020 ITC meeting, the ITC discussed the 20 High-Priority Substances designated by EPA under TSCA section 6(b) and information-gathering options for these substances. Five of these High-Priority Substances were already on the Priority Testing List, added previously by the 69th ITC Report (Ref. 2). The ITC discussed adding the remaining 15 High-Priority Substances to the Priority Testing List and also requesting the addition of those chemical substances to the TSCA section 8(d) Health and Safety Data Reporting rule (40 CFR part 716) so that EPA may obtain unpublished health and safety studies on all 20 High-Priority Substances.

During the May 2020 ITC meeting, the ITC also discussed adding a group of organohalogen flame retardants to the Priority Testing List to obtain unpublished health and safety studies on 30 organohalogen flame retardants, six of which were previously added to the Priority Testing List by the 69th ITC Report.

The 15 High-Priority Substances and 24 organohalogen flame retardants being added to the Priority Testing List are listed in Table 1 of this unit. The remainder of the chemical substances and mixtures on the Priority Testing List is provided in Table 2 of this unit.

The five High-Priority Substances that were already listed on the Priority Testing List are 1,1-dichloroethane (CAS No. 75-34-3), 1,2-dichloroethane (CAS No. 107-06-2), ethylene dibromide (CAS No. 106-93-4), tris(2-chloroethyl) phosphate (TCEP) (CAS No. 115-96-8), and phosphoric acid, triphenyl ester (TPP) (CAS No. 115-86-6). The ITC is also requesting the addition of these chemical substances to the TSCA section 8(d) Health and Safety Data Reporting rule so that EPA can obtain unpublished health and safety studies on these substances.

The six organohalogen flame retardants that were already listed on the Priority Testing List are bis(2-ethylhexyl) tetrabromophthalate (CAS No. 26040-51-7), 2-ethylhexyl 2,3,4,5-tetrabromobenzoate (CAS No. 183658-27-7), phosphoric acid, 2,2-bis(chloromethyl)-1,3-propanediyl tetrakis(2-chloroethyl) ester (CAS No. 38051-10-4), tris(2-chloroisopropyl)phosphate (CAS No. 13674-84-5), tris(2-chloropropyl) phosphate (CAS No. 6145-73-9), and tris(1,3-dichloro-2-propyl) phosphate (CAS No. 13674-87-8). The ITC is also requesting the addition of these chemical substances to the TSCA section 8(d) Health and Safety Data Reporting rule so that EPA can obtain unpublished health and safety studies on these substances.

Chemical Substances Added to the Priority Testing List

1. High-Priority Substances

i. Recommendation. The ITC is adding the 15 High-Priority Substances listed in Table 1 of this report to the Priority Testing List. The ITC is also requesting the addition of these chemical substances to the TSCA section 8(d) Health and Safety Data Reporting rule so that EPA can obtain to obtain unpublished health and safety studies on health effects, physical/chemical properties, environmental fate, environmental effects, and exposure.

ii. Rationale for recommendation. The 20 High-Priority Substances identified in this report have been designated High-Priority under TSCA section 6(b) because EPA has found that each of these chemical substances may present an unreasonable risk of injury to health or the environment under the conditions of use for that chemical substance (Ref. 4). The development of information on these chemical substances under TSCA section 4(a) will enable EPA to inform its risk evaluation findings of whether any of these High-Priority Substances present an unreasonable risk of injury to health or the environment under the conditions of use for each of these chemical substances.

iii. Supporting information. TSCA section 6 requires EPA to address existing chemical substances with a three-stage process. The three stages of EPA's process for ensuring there are no unreasonable risks associated with the conditions of use of existing chemical substances are (1) prioritization, (2) risk evaluation, and (3) risk management. Prioritization and risk evaluation are carried out in accordance with procedural regulations at 40 CFR part 702, subparts A and B, respectively.

During prioritization EPA designates a chemical substance as either High-Priority for risk evaluation, or Low-Priority for which risk evaluation is not warranted at the time. A High-Priority Substance is defined under TSCA section 6(b)(1)(B)(i) as “a chemical substance that the Administrator concludes, without consideration of costs or other nonrisk factors, may present an unreasonable risk of injury to health or the environment because of a potential hazard and a potential route of exposure under the conditions of use, including an unreasonable risk to potentially exposed or susceptible subpopulations identified as relevant by the Administrator.”

During the prioritization process, EPA identifies chemical substances that are candidates for prioritization and then uses reasonably available information to screen each candidate chemical substance against certain criteria and considerations specified in TSCA section 6(b)(1)(A):

• The hazard and exposure potential of the chemical substance;

• Persistence and bioaccumulation of the chemical substance;

• Potentially exposed or susceptible subpopulations;

• Storage near significant sources of drinking water;

• The conditions of use or significant changes in the conditions of use of the chemical substance;

• The volume or significant changes in the volume of the chemical substance manufactured or processed; and

• Other risk-based criteria that EPA determines to be relevant to the designation of the chemical substance's priority.

Conditions of use is defined under TSCA section 3(4) to mean “the circumstances, as determined by the Administrator, under which a chemical substance is intended, known, or reasonably foreseen to be manufactured, processed, distributed in commerce, used or disposed of.”

Under this process, EPA issues a proposal to designate each chemical substance as either a High-Priority Substance or Low-Priority Substance based on the results of the screening review and other relevant information. Following additional public comment opportunity, EPA finalizes the designation for each chemical substance. Final designation of a chemical substance as a High-Priority Substance initiates the risk evaluation process for that chemical substance. The risk evaluation process has begun for each of these 20 High-Priority Substances. Under TSCA section 4(a)(2), EPA may by rule, order, or consent agreement “require the development of new information relating to a chemical substance or mixture if the Administrator determines that the information is necessary. . .to perform a risk evaluation under section [6(b)] . . .”

iv. Information needs. Under TSCA section 4(a)(2), EPA can by Test Order require testing when there is a need for information and all reasonably available information has been assessed. Order authority can be used to efficiently obtain information to inform the TSCA section 6 prioritization and risk evaluation processes. Information needs specific to each of the 20 High-Priority Substances have been identified and would be informed under this authority. Additionally, collection of health and safety data on health effects, toxicokinetics, environmental effects, environmental fate, physical chemical properties, and exposure would inform EPA activities involving these chemicals.

2. Organohalogen Flame Retardants

i. Recommendation. The ITC is adding a group of 24 “organohalogen flame retardants” (OFRs) to the Priority Testing List. In addition to adding these chemicals substances to the Priority Testing List, the ITC is also requesting their addition to the TSCA section 8(d) Health and Safety Data Reporting rule so that EPA can obtain unpublished health and safety studies on these chemical substances.

ii. Rationale for recommendation. CPSC requested that additive, nonpolymeric OFRs be added to the Priority Testing List because CPSC voted to grant a petition to begin rulemaking for this class of chemicals under the Federal Hazardous Substances Act and needs information on these OFRs for such purposes. OFRs may be added to consumer products to prevent or slow combustion, but are additive, i.e., not covalently bound to the substrate, which can be textiles, polymers, or foam. Most OFRs are semi-volatile compounds (SVOCs), that can migrate into air, where they bind to airborne particles and surfaces in the home. In addition to direct contact with OFR-containing products, a substantial portion of exposure is believed to occur from exposure to household dust, especially in children. Biomonitoring studies and measurements of household dust and indoor air demonstrate that exposure to OFRs is nearly ubiquitous.

Many OFRs have been shown to cause health effects. Health effects associated with OFRs include carcinogenicity (e.g., halogenated alkyl phosphates), developmental effects (polybrominated diphenyl ethers, PBDEs), and developmental neurotoxicity (i.e., Decabromodiphenyl ether (decaBDE)). However, most OFRs have little or no published human health and safety data.

At the meeting to discuss the 74th report of the ITC, ITC members supported CPSC's request to add these OFR's to the Priority Testing List and had no comment as to their inclusion on the draft Priority Testing List.

iii. Supporting information. In 2015, CPSC was petitioned by a number of organizations and individuals, such as consumer groups, medical associations, workers, and firefighter organizations, to ban the use of all additive, non-polymeric OFRs under the authority of the Federal Hazardous Substances Act in the following consumer products: (1) Durable infant or toddler products, children's toys, child care articles, or other children's products (other than car seats, which are under Department of Transportation's jurisdiction); (2) residential upholstered furniture; (3) mattresses and mattress pads; and (4) the plastic casings of electronic devices (Ref. 5).

CPSC granted the petition in 2017 and directed staff to complete a scoping and feasibility study in cooperation with the National Academy of Sciences, Engineering, and Medicine (NASEM). The task for this project was to develop a scientifically based scoping plan to identify the potential health hazards associated with additive, nonpolymeric OFRs as a class. The NASEM Committee published the report, “A Class Approach to Hazard Assessment of Organohalogen Flame Retardants” in May 2019 (Ref. 6). A key conclusion of the NASEM Committee is that OFRs cannot be treated as a single class. Rather, the NASEM Committee identified 14 subclasses of OFRs, based on chemical structure, physicochemical properties of the chemicals, and predicted biologic activity. The NASEM Committee identified 161 OFRs and more than 1,000 analog chemicals. CPSC staff is undertaking the risk assessment of 14 classes of OFRs following the recommendations of the NASEM Committee.

iv. Information needs. Preliminary searches show that little or no health and safety data are available for many of the 161 OFRs, including the OFRs being added to the Priority Testing List in this report and the six OFRs already on the Priority Testing List. CPSC needs health and safety data for the OFRs; all studies with relevant information will help fill existing data gaps. Of special interest are studies to help assess risks to consumers.

Table 1—High-Priority Substances and Organohalogen Flame Retardants Being Added to the Priority Testing List
Chemical substance | CASRN
Organohalogen Flame Retardants:
Bis(hexachlorocyclopentadieno)cyclooctane | 13560-89-9
1,2-Bis(2,4,6-tribromophenoxy)ethane | 37853-59-1
1,1′-Ethane-1,2-diylbis(pentabromobenzene) | 84852-53-9
2-(2-Hydroxyethoxy)ethyl 2-hydroxypropyl 3,4,5,6-tetrabromophthalate | 20566-35-2
2,2′-[(1-Methylethylidene)bis[(2,6-dibromo-4,1-phenylene)oxymethylene]]bis[oxirane] | 3072-84-2
Mixture of chlorinated linear alkanes C14-17 with 45-52% chlorine | 85535-85-9
N,N-Ethylene-bis(tetrabromophthalimide) | 32588-76-4
Pentabromochlorocyclohexane | 87-84-3
(Pentabromophenyl)methyl acrylate | 59447-55-1
Pentabromotoluene | 87-83-2
Perbromo-1,4-diphenoxybenzene | 58965-66-5
Phosphonic acid, (2-chloroethyl)-, bis(2-chloroethyl) ester | 6294-34-4
Propanoic acid, 2-bromo-, methyl ester | 5445-17-0
Tetrabromobisphenol A-bis(2,3-dibromopropyl ether) | 21850-44-2
Tetrabromobisphenol A bis(2-hydroxyethyl) ether | 4162-45-2
Tetrabromobisphenol A diallyl ether | 25327-89-3
Tetrabromobisphenol A dimethyl ether | 37853-61-5
2,4,6-Tribromoaniline | 147-82-0
1,3,5-Tribromo-2-(prop-2-en-1-yloxy)benzene | 3278-89-5
Tris(2-chloroethyl) phosphite | 140-08-9
Tris(2,3-dibromopropyl) phosphate | 126-72-7
1,3,5-Tris(2,3-dibromopropyl)-1,3,5-triazine-2,4,6(1H,3H,5H)-trione | 52434-90-9
Tris(tribromoneopentyl)phosphate | 19186-97-1
2,4,6-Tris-(2,4,6-tribromophenoxy)-1,3,5-triazine | 25713-60-4
High-Priority Substances:
1,3-Butadiene | 106-99-0
Butyl benzyl phthalate (BBP)—1,2-Benzene-dicarboxylic acid, 1-butyl 2(phenylmethyl) ester | 85-68-7
Dibutyl phthalate (DBP) (1,2-Benzene-dicarboxylic acid, 1,2-dibutyl ester) | 84-74-2
o-Dichlorobenzene | 95-50-1
p-Dichlorobenzene | 106-46-7
trans-1,2-Dichloroethylene | 156-60-5
1,2-Dichloropropane | 78-87-5
Dicyclohexyl phthalate | 84-61-7
Di-ethylhexyl phthalate (DEHP)—(1,2-Benzene-dicarboxylic acid, 1,2-bis(2-ethylhexyl) ester) | 117-81-7
Di-isobutyl phthalate (DIBP)—(1,2-Benzene-dicarboxylic acid, 1,2-bis-(2methylpropyl) ester) | 84-69-5
Formaldehyde | 50-00-0
1,3,4,6,7,8-Hexahydro-4,6,6,7,8,8-hexamethylcyclopenta [g]-2-benzopyran (HHCB) | 1222-05-5
Phthalic anhydride | 85-44-9
4,4′-(1-Methylethylidene)bis[2, 6-dibromophenol] (TBBPA) | 79-94-7
1,1,2-Trichloroethane | 79-00-5

Table 2—Remainder of TSCA Section 4(e) Priority Testing List
Chemical substance | CASRN | ITC report No.
1,1-Dichloroethane | 75-34-3 | 69
1,2,3-Propanetricarboxylic acid, 2-(acetyloxy)-, tributyl ester; Acetyl tri-n -butyl citrate | 77-90-7 | 69
Phosphoric acid, triethyl ester; Triethyl phosphate | 78-40-0 | 69
Ethanol, (2-butoxy-), 1,1″,1″-phosphate; Tri(2-butoxyethyl) phosphate | 78-51-3 | 69
Ethane, 1,1,2,2-tetrachloro-; 1,1,2,2-Tetrachloroethane | 79-34-5 | 69
Benzene, 1,3-diisocyanato-2-methyl | 91-08-7 | 69
1,1′-Biphenyl, 4,4′-diisocyanato-3,3′-dimethyl- | 91-97-4 | 69
[1,1′-Biphenyl]-4,4′diamine; Benzidine | 92-87-5 | 69
Benzene, 1,1′-methylenebis[4-isocyanato- | 101-68-8 | 69
Hexanedioic acid, 1,6-bis(2-ethylhexyl) ester; Di(2-ethylhexyl) adipate | 103-23-1 | 69
Benzene, 1,1′-[1,2-ethanediylbis(oxy)]bis- | 104-65-5 | 55
Ethane, 1,2-dibromo-; 1,2-Dibromoethane | 106-93-4 | 69
2-Propenal; Acrolein | 107-02-8 | 69
Ethane, 1,2-dichloro-; 1,2-Dichloroethane | 107-06-2 | 69
1-Pentene, 2,4,4-trimethyl | 107-39-1 | 55
2-Pentene, 2,4,4-trimethyl- | 107-40-4 | 55
Phenol, 2-(1,1-dimethylethyl)-4-methyl- | 108-95-2 | 69
Phosphoric acid, triphenyl ester; Triphenyl phosphate | 115-86-6 | 69
Ethanol, 2-chloro-, phosphate (3:1); Tris-(2-chloroethyl) phosphate | 115-96-8 | 69
1,3,5-Triazine, hexahydro-1,3,5-trinitro- (RDX) | 121-82-4 | 55
Phosphoric acid, tris(2-methylpropyl)ester; Triisobutyl phosphate | 126-71-6 | 69
Phosphoric acid tributyl ester; Tributyl phosphate | 126-73-8 | 69
Ethanesulfonic acid, 2-[methyl[(9Z)-1-oxo-9-octadecen-1-yl]amino]-, sodium salt (1:1) | 137-20-2 | 55
4-(1,1,3,3-tetramethylbutyl) phenol | 140-66-9 | 41
1(2H)-Naphthalenone, 3,4-dihydro- | 529-34-0 | 55
Benzene, 2,4-diisocyanato-1-methyl- | 584-84-9 | 69
1,2-Butadiene | 590-19-2 | 55
Propanoic acid, 2-bromo- | 598-72-1 | 55
Hexane, 1,6-diisocyanato- | 822-06-0 | 69
Phosphoric acid, 2-ethylhexyl diphenyl ester; 2-Ethylhexyl diphenyl phosphate | 1241-94-7 | 69
Phenol, methyl-; Cresol | 1319-77-3 | 69
Phosphoric acid, tris(methylphenyl) ester; Tricresyl phosphate, mixed isomers | 1330-78-5 | 69
Tannins | 1401-55-4 | 55
Propanenitrile, 3-(dimethylamino)- | 1738-25-6 | 55
Oxirane, 2-[(2-methylphenoxy)methyl]- | 2210-79-9 | 55
1-Butanol, sodium salt (1:1) | 2372-45-4 | 55
Phenol, 2-(1,1-dimethylethyl)-4-methyl- | 2409-55-4 | 55
Tetradecane, 1-chloro- | 2425-54-9 | 55
1,3,5,7-Tetrazocine, octahydro-1,3,5,7-tetranitro- (HMX | 2691-41-0 | 55
Benzene, 1,3-bis(1-isocyanato-1-methylethyl)- | 2778-42-9 | 69
Ethenesulfonic acid, sodium salt (1:1) | 3039-83-6 | 55
1,3,5-Triazine-2,4,6(1H,3H,5H)-trione, 1,3,5-tris(6-isocyanatohexyl)- | 3779-63-3 | 69
Naphthalene, 1,5-diisocyanato- | 3173-72-6 | 69
Cyclohexane, 5-isocyanato-1-(isocyanatomethyl)-1,3,3-trimethyl- | 4098-71-9 | 69
2-Butenal | 4170-30-3 | 55
Hexadecane, 1-chloro- | 4860-03-1 | 55
Cyclohexane, 1,1′-methylenebis[4-isocyanato- | 5124-30-1 | 69
Benzene, 1-isocyanato-2-[(4-isocyanatophenyl)methyl]- | 5873-54-1 | 69
Phosphoric acid, P,P′ -[(1-methylethylidene)di-4, 1-phenylene] P,P,P′,P′ -tetraphenyl ester; Tetraphenyl Bisphenol A diphosphate | 5945-33-5 | 69
1-Propanol, 2-chloro-, 1,1″,1″-phosphate; Tris(2-chloro-1-propyl) phosphate | 6145-73-9 | 69
Tris(chloropropyl) phosphate (mixture of isomers) | 6145-73-9; 13674-44-5; 76025-08-6; 76649-15-5 | 69
1,4-Benzenedicarboxylic acid, 1,4-bis(2-ethylhexyl) ester; Di(2-ethylhexyl) terephthalate | 6422-86-2 | 69
Propanoic acid, 2-methyl-, 1,1′-[2,2-dimethyl-1-(1-methylethyl)-1,3- propanediyl] ester; 2,2,4-Trimethyl-1,3-pentanediol diisobutyrate | 6846-50-0 | 69
Aluminum | 7429-90-5 | 69
Cadmium | 7440-43-9 | 68
Cadmium compounds category | No CAS No. | 68
Creosote | 8001-58-9 | 55
Isocyanic acid, polymethylenepolyphenylene ester | 9016-87-9 | 69
2-Propanol, 1-chloro-, 2,2′,2″-phosphate; Tris(1-chloro-2-propyl) phosphate | 13674-84-5 | 69
2-Propanol, 1,3-dichloro-, phosphate (3:1); Tris(1,3-dichloro-2-propyl) phosphate | 13674-87-8 | 69
Hexane, 1,6-diisocyanato-2,4,4-trimethyl- | 15646-96-5 | 69
Hexane, 1,6-diisocyanato-2,2,4-trimethyl- | 16938-22-0 | 69
Urea, sulfate (2:1) | 17103-31-0 | 55
Urea, sulfate (1:1) | 17976-43-1 | 55
2,4,6,8,3,5,7-Benzotetraoxatriplumbacycloundecin-3,5,7-triylidene, 1,9-dihydro-1,9-dioxo | 21351-39-3 | 55
Formic acid, compd. With 2,2′,2′-nitrilotris[ethanol] (1:1) | 24794-58-9 | 55
Phenol, dimethyl-, 1,1′,1′-phosphate; Trixylyl phosphate | 25155-23-1 | 69
1,2-Benzenedicarboxylic acid, 3,4,5,6-tetrbromo-, 1,2-bis(2-ethylhexyl) ester; Bis(2-ethyl-1-hexyl) tetrabromophthalate | 26040-51-7 | 69
Phosphoric acid, methylphenyl diphenyl ester; Cresyl diphenyl phosphate | 26444-49-5 | 69
Benzene, 1,1′-methylenebis[isocyanato- | 26447-40-5 | 69
Benzene, 1,3-diisocyanatomethyl- | 26471-62-5 | 69
2,5-Furandione, dihydro-3-(octen-1-yl)- | 26680-54-6 | 55
1,3-Diazetidine-2,4-dione, 1,3-bis(3-isocyanatomethylphenyl)- | 26747-90-0 | 69
Hexane, 1,6-diisocyanato-,homopolymer; hexamethylene diisocyanate (HDI) homopolymer | 28182-81-2 | 69
Benzothiazole, 2-[(chloromethyl)thio]- | 28908-00-1 | 55
Ethanol, 2-(2-butoxyethoxy)-, sodium salt (1:1) | 29761-21-5 | 69
Phosphoric acid, P,P′ -[2,2-bis(chloromethyl)-1,3-propanediyl] P,P,P′,P′ -tetrakis(2-chloroethyl) ester; 2,2-Bis(chloromethyl)-1,3-propanediyl tetrakis(2-chloroethyl) phosphate | 38051-10-4 | 69
Phosphoric acid, isodecyl diphenyl ester; Isodecyl diphenyl phosphate | 38321-18-5 | 55
Phosphoric acid, (1,1-dimethylethyl)phenyl diphenyl ester | 56803-37-3 | 55
Phosphoric acid, bis[(1,1-dimethylethyl)phenyl] phenyl ester; Bis (tert-butylphenyl) phenyl phosphate | 65652-41-7 | 69
Phosphorodithioic acid, O,O-di-C1-14-alkyl esters | 68187-41-7 | 55
Coal, anthracite, calcined | 68187-59-7 | 55
Cyclohexane, 2-heptyl-3,4-bis(9-isocyanatononyl)-1-pentyl- | 68239-06-5 | 69
Amides, tall-oil fatty, N,N-di-Me | 68308-74-7 | 55
Fatty acids, tall-oil, sulfonated, sodium salts | 68309-27-3 | 55
Decanoic acid, mixed esters with dipentaerythritol, octanoic acid and valeric acid | 68441-66-7 | 55
Naphtha (petroleum), clay-treated light straight-run | 68527-22-0 | 56
Benzenesulfonic acid, C10-16-alkyl derivs., compds. with triethanolamine | 68584-25-8 | 55
Distillates, hydrocarbon resin prodn. higher boiling | 68602-81-3 | 55
Phosphorodithioic acid, O,O-di-C1-14-alkyl esters, zinc salts | 68649-42-3 | 55
Aromatic hydrocarbons, C8, o-xylene-lean | 68650-36-2 | 55
Distillates (petroleum), hydrofined lubricating-oil | 68782-97-8 | 55
Hydrocarbons, C12-20, catalytic alkylation by-products | 68919-17-5 | 55
Phenol, isobutylenated, phosphate (3:1); Isobutylated phenol phosphate | 68937-40-6 | 69
Phenol, isopropylated, phosphate (3:1); Isopropylated triphenyl phosphate | 68937-41-7 | 69
Benzene, mixed with toluene, dealkylation product | 68953-80-0 | 55
Aromatic hydrocarbons, C9-16, biphenyl deriv.-rich | 68955-76-0 | 55
Tar, coal, high-temp., high-solids | 68990-61-4 | 55
Terpenes and Terpenoids, C10-30, distn. residues | 70084-98-9 | 55
Ethanol, 2,2′-oxybis-, rxn products with ammonia, morpholine product tower residues | 71077-05-9 | 55
Phosphoric acid, bis(2-chloro-1-methylethyl) 2-chloropropyl ester; Bis(1-chloro-2-isoprpyl) (2-chloropropyl) phosphate | 76025-08-6 | 69
Phosphoric acid, 2-chloro-1-methylethyl bis(2-chloropropyl) ester; Bis(2-chloropropyl) (I-chloro-2-isopropyl) phosphate | 76649-15-5 | 69
Branched 4-nonylphenol (mixed isomers) | 84852-15-3 | 37
Benzene, 1,1′-oxybis-,tetrapropylene derivs | 119345-02-7 | 55
1,2-Cyclohexanedicarboxylic acid, 1,2-diisononyl ester | 166412-78-8 | 69
Phosphoric trichloride, reaction products with bisphenol A and phenol; Bisphenol A diphosphate | 181028-79-5 | 69
Benzoic acid, 2,3,4,5-tetrabromo-, 2-ethylhexyl ester; 2-Ethylhexyl-2,3,4,5- tetrabromobenzoate | 183658-27-7 | 69
Phenol, tert-Bu derivs., phosphates (3:1); Butylated triphenyl phosphate | 220352-35-2 | 69
1,2-Cyclohexanedicarboxylic acid, 1,2-dinonyl ester, branched and linear | 474919-59-0 | 69

IV. References

1. EPA. 40 CFR part 716. Health and Safety Data Reporting. Available online at: https://www.ecfr.gov/cgibin/textidx?SID=94b50835053a07b80c3517fff641aeba&mc=true&node=pt40.33.716&rgn=div5.

2. ITC. Sixty-Ninth Report of the TSCA Interagency Testing Committee to the Administrator of the Environmental Protection Agency; Receipt of Report and Request for Comments; Notice. Federal Register (77 FR 30856, May 23, 2012) (FRL-9346-3). Available online at: http://www.gpo.gov/fdsys/pkg/FR-2012-05-23/pdf/2012-12493.pdf.

3. EPA. 40 CFR 716.120. Substances and listed mixtures to which this subpart applies. Available online at: https://www.ecfr.gov/cgibin/textidx?SID=94b50835053a07b80c3517fff641aeba&mc=true&node=pt40.33.716&rgn=div5#se40.33.716_1120.

4. EPA. High-Priority Substance Designations Under the Toxic Substances Control Act (TSCA) and Initiation of Risk Evaluation on High-Priority Substances; Notice of Availability. Federal Register (84 FR 71924, December 30, 2019) (FRL-10003-15). Available online at: https://www.govinfo.gov/content/pkg/FR-2019-12-30/pdf/2019-28225.pdf.

5. CPSC. U.S. Consumer Product Safety Commission Petition: Products Containing Organohalogen Flame Retardants. Docket ID number: CPSC-2015-0022. Available online at: https://www.regulations.gov/docket?D=CPSC-2015-0022.

6. CPSC. National Academies of Sciences, Engineering, and Medicine 2019. A Class Approach to Hazard Assessment of Organohalogen Flame Retardants. Washington, DC: The National Academies Press. https://doi.org/10.17226/25412. Available online at: http://nap.edu/25412.

V. The TSCA Interagency Testing Committee

The following is a list of the statutory organizations with representatives on the ITC.

Council on Environmental Quality (vacant)

National Institute of Standards and Technology (vacant)

Environmental Protection Agency, Tala Henry, Member

National Institute of Environmental Health Sciences, Chad Blystone, Member

National Institute for Occupational Safety and Health, Evan Frank, Member

National Science Foundation (vacant)

Occupational Safety and Health Administration, Jonathan Bearr, Member

National Cancer Institute, Mark Miller, Member

Food and Drug Administration, Suzanne Fitzpatrick, Member

Consumer Product Safety Commission, Joel Recht, Member

Liaison Organizations with Representatives:

Agency for Toxic Substances and Disease Registry, Custodio V. Muianga, Member

Department of the Interior, Barnett A. Rattner, Member

U.S. Department of Agriculture, Cathleen Hapeman, Member, and Clifford Rice, Alternate

[FR Doc. 2021-08839 Filed 4-27-21; 8:45 am]

BILLING CODE 6560-50-P